DEPARTMENT OF STATE

[Public Notice: 10544]

60-Day Notice of Proposed Information Collection: Annual Brokering Report

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 19, 2018.

ADDRESSES: You may submit comments by any of the following methods:

• Web: Persons with access to the internet may comment on this notice by going to www.Regulations.gov. You can search for the document by entering “Docket Number: DOS-2018-0042” in the Search field. Then click the “Comment Now” button and complete the comment form.

• Email: DDTCPublicComments@state.gov.

• Regular Mail: Send written comments to: Directorate of Defense Trade Controls, Attn: Andrea Battista, 2401 E St. NW, Suite H-1205, Washington, DC 20522-0112.

You must include the subject (PRA 60 Day Comment), information collection title (Annual Brokering Report), and OMB control number (1405-0141) in any correspondence.

FOR FURTHER INFORMATION CONTACT: Direct requests for additional information regarding this collection to Andrea Battista, who may be reached at BattistaAL@state.gov or 202-663-3136.

SUPPLEMENTARY INFORMATION: • Title of Information Collection: Annual Brokering Report.

• OMB Control Number: 1405-0141.

• Type of Request: Extension.

• Originating Office: Directorate of Defense Trade Controls (DDTC).

• Form Number: No form.

• Respondents: Respondents are any person/s who engages in the United States in the business of manufacturing or exporting or temporarily importing defense articles.

• Estimated Number of Respondents: 1,200.

• Estimated Number of Responses: 1,200.

• Average Time per Response: 2 hour.

• Total Estimated Burden Time: 2,400 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

In accordance with part 129 of the ITAR, U.S. and foreign persons required to register as a broker shall provide annually a report to DDTC enumerating and describing brokering activities by quantity, type, U.S. dollar value, purchaser/recipient, and license number for approved activities and any exemptions utilized for other covered activities. This information is currently used in the review of munitions export and brokering license applications and to ensure compliance with defense trade statutes and regulations. As appropriate, such information may be shared with other U.S. Government entities.

Methodology

Brokering Reports are submitted annually with Statement of Registration renewals.

Anthony M. Dearth,
Chief of Staff, Directorate of Defense Trade Controls, U.S. Department of State.

[FR Doc. 2018-20341 Filed 9-18-18; 8:45 am]

BILLING CODE 4710-25-P